DEPARTMENT OF EDUCATION

Applications for New Awards; Charter Schools Program (CSP) Grants to Charter Management Organizations for the Replication and Expansion of High-Quality Charter Schools; Correction

AGENCY: Office of Innovation and Improvement, Department of Education.

ACTION: Notice; correction.

Catalog of Federal Domestic Assistance (CFDA) Number: 84.282M.

SUMMARY: On January 13, 2017, we published in the Federal Register (82 FR 4322) a notice inviting applications for new awards for fiscal year (FY) 2017 for the CSP Grants to Charter Management Organizations for the Replication and Expansion of High-Quality Charter Schools program. This document corrects several references to “section 1111(c)(2) of the ESEA, as amended by the NCLB.”

In addition, in order to afford eligible applicants the opportunity to apply, or to amend their applications to provide additional information related to “section 1111(c)(2) of the ESEA, as amended by the ESSA,” we are reopening the FY 2017 CSP Grants to Charter Management Organizations for the Replication and Expansion of High-Quality Charter Schools competition.

DATES:

Deadline for Transmittal of Applications: March 15, 2017.

Deadline for Intergovernmental Review: May 14, 2017.

FOR FURTHER INFORMATION CONTACT: Eddie Moat, U.S. Department of Education, 400 Maryland Avenue SW., Room 4W224, Washington, DC 20202-5970. Telephone: (202) 401-2266, or by email: charterschools@ed.gov.

If you use a telecommunications device for the deaf (TDD) or a text telephone (TTY), call the Federal Relay Service, toll free, at 1-800-877-8339.

SUPPLEMENTARY INFORMATION: On January 13, 2017, we published in the Federal Register (82 FR 4322) a notice inviting applications for new awards for FY 2017 for the CSP Grants to Charter Management Organizations for the Replication and Expansion of High-Quality Charter Schools program. We are reopening the competition for two weeks and announcing the new deadline of March 15, 2017, for transmittal of applications. We are also correcting all references to “section 1111(c)(2) of the ESEA, as amended by the NCLB” with “section 1111(c)(2) of the ESEA, as amended by the ESSA.”

All other requirements and conditions stated in the notice inviting applications remain the same.

Corrections

In FR Doc. No. 2017-00748, in the Federal Register of January 13, 2017 (82 FR 4322), we make the following corrections:

(a) On page 4329, beginning in the middle column and ending on page 4330, in each place in which the phrase “section 1111(c)(2) of the ESEA, as amended by the NCLB” appears, revise the phrase to read “section 1111(c)(2) of the ESEA, as amended by the ESSA”.

(b) On page 4329, in the middle column, remove footnote 6.

All other requirements and conditions stated in the notice inviting applications remain the same.

Program Authority: Section 4305(b) of the Elementary and Secondary Education Act of 1965, as amended by the Every Student Succeeds Act (20 U.S.C. 7221d(b)).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 24, 2017.
Margo Anderson,
Acting Assistant Deputy Secretary for Innovation and Improvement.

[FR Doc. 2017-04004 Filed 2-28-17; 8:45 am]

BILLING CODE 4000-01-P